FEDERAL ELECTION COMMISSION

Sunshine Act Notices

DATE AND TIME: Thursday, November 18, 2010, at 10 a.m.

PLACE: 999 E. Street, NW., Washington, DC (ninth floor).

STATUS: This meeting will be open to the public.

Items To Be Discussed

Correction and Approval of the Minutes for the Meeting of November 4, 2010.

Draft AO 2010-23: CTIA by Jan Witold Baran, Esq. and Caleb P. Burns, Esq.

Draft AO 2010-24: Republican Party of San Diego County by C. April Boling, CPA, Treasurer.

Draft AO 2010-26: The Honorable Brian Baird.

Draft AO 2010-27: Obama for America by Judith L. Corley, Esq. and Rebecca H. Gordon, Esq.; and Biden for President by William J. Farah, Esq.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2010-29407 Filed 11-23-10; 8:45 am]

BILLING CODE 6715-01-M